FEDERAL COMMUNICATIONS COMMISSION

47 CFR Part 4

[PS Docket No. 11-82; DA 12-1962]

Extension of the Commission's Rules Regarding Outage Reporting to Interconnected Voice Over Internet Protocol Service Providers and Broadband Internet Service Providers

AGENCY: Federal Communications Commission.

ACTION: Final rule; correction.

SUMMARY: This document contains a correction to text in the Report and Order, FCC 12-22, adopted on February 15, 2012 and released on February 21, 2012, in PS Docket No. 11-82. The Report and Order was published in the Federal Register on Friday, April 27, 2012. This document also contains a related correction to text in the Federal Register but makes no changes to the final rules.

DATES: This correction is effective January 30, 2013. The rules in the Report and Order contain information collection requirements. The Federal Communications Commission published a document in the Federal Register announcing that OMB approved the information collection and that the rules in the Report and Order became effective December 16, 2012 (77 FR 63757).

FOR FURTHER INFORMATION CONTACT: Gregory Intoccia, Special Counsel, Cybersecurity and Communications Reliability Division, Public Safety and Homeland Security Bureau, (202) 418-1470 or gregory.intoccia@fcc.gov (email).

SUPPLEMENTARY INFORMATION: On February 21, 2012, the Federal Communications Commission released a Report and Order, FCC 12-22, in PS Docket No. 11-82, which was published at 27 FCC Rcd 2650 (2012). Under delegated authority, the Public Safety and Homeland Security Bureau of the Federal Communications Commission adopted and released Order DA 12-1962 on December 6, 2012. Order DA 12-1962, an Erratum, made a correction to the second sentence of paragraph 89 of the Report and Order. Specifically, in paragraph 89, in the second sentence, the phrase “(1) that potentially affects at least 900,000 users;” was corrected to read as “(1) that potentially affects at least 900,000 user minutes of interconnected VoIP service and results in complete loss of service;”. The change was made to correct some inconsistency with the related rule and with text in several other places in the Report in Order reflecting language identical to the rule. In FR Doc. 2012-9749, which appears on pages 25088 through 25097 in the Federal Register of Friday, April 27, 2012 (77 FR 25088), the following correction is made:

On page 25094, the first column in the Discussion section, paragraph 52. second sentence, “We apply to interconnected VoIP service providers the obligation to report when they have experienced, on any facilities that they own, operate, lease, or otherwise utilize, an outage of at least 30 minutes duration: (1) That potentially affects at least 900,000 users; * * *” is corrected to read “We apply to interconnected VoIP service providers the obligation to report when they have experienced, on any facilities that they own, operate, lease, or otherwise utilize, an outage of at least 30 minutes duration: (1) That potentially affects at least 900,000 user minutes of interconnected VoIP service and results in complete loss of service; * * *.”

The Bureau has not changed the text of the final rules that amended 47 CFR part 4.

Federal Communications Commission.
David S. Turetsky,
Chief, Public Safety and Homeland Security Bureau.

[FR Doc. 2013-01996 Filed 1-29-13; 8:45 am]

BILLING CODE 6712-01-P